DEPARTMENT OF HOMELAND SECURITY

[Docket No. DHS-2009-0086]

Science and Technology (S&T) Directorate; Submission for Review; Information Collection Request for the DHS S&T SAFETY Act Program

AGENCY: Science and Technology Directorate, DHS.

ACTION: 60-day Notice and request for comment.

SUMMARY: The Department of Homeland Security (DHS) invites the general public to comment on the following data collection forms for the DHS Science and Technology Directorate's Support Anti-Terrorism by Fostering Effective Technologies (SAFETY) Act Program: Registration of a Seller of an Anti-Terrorism Technology (DHS Form 10010), Request for a Pre-Application Consultation (DHS Form 10009), Notice of License of Qualified Anti-Terrorism Technology (DHS Form 10003), Application for Modification of SAFETY Act Benefits (DHS Form 10002), Request for Transfer of SAFETY Act Benefits (DHS Form 10001), Application for SAFETY Act Renewal, Application for SAFETY Act Developmental Testing and Evaluation (DT&E) Designation (DHS Form 10006), Application for SAFETY Act Designation (DHS Form 10008), Application for SAFETY Act Certification (DHS Form 10007), Application for SAFETY Act Block Designation (DHS Form 10005), and Application for SAFETY Act Block Certification (DHS Form 10004).

In 2002, The Support Anti-Terrorism by Fostering Effective Technologies (SAFETY) Act (6 CFR Part 25) was enacted as part of the Homeland Security Act of 2002, Public Law 107-296. The SAFETY Act program promotes the development and use of anti-terrorism technologies that will enhance the protection of the nation and provides risk management and litigation management protections for sellers of Qualified Anti-Terrorism Technology (QATT) and others in the supply and distribution chain.

The Department of Homeland Security Science & Technology Directorate (DHS S&T) currently has approval to collect information for the implementation of the SAFETY Act program until January 31, 2010. With this notice, DHS S&T seeks approval to renew this information collection for continued use after this date. The SAFETY Act program requires the collection of this information in order to evaluate and qualify Anti-Terrorism Technologies, based on the economic and technical criteria contained in the SAFETY Act Final Rule, for protection in accordance with the Act, and therefore encourage the development and deployment of new and innovative anti-terrorism products and services.

This notice and request for comments is required by the Paperwork Reduction Act of 1995 (Pub. L. 104-13, 44 U.S.C. chapter 35).

DATES: Comments are encouraged and will be accepted until August 17, 2009.

ADDRESSES: Interested persons are invited to submit written comments on the proposed information collection to the Office of Information and Regulatory Affairs, Office of Management and Budget. Comments should be addressed to Desk Officer for the Department of Homeland Security, Science & Technology Directorate, and sent via electronic mail to oira_submission@omb.eop.gov or faxed to (202) 395-6974. Please include the docket number [DHS-2009-0086] in the subject line of the message.

FOR FURTHER INFORMATION CONTACT: Michael Bowerbank, 202-254-6895.

SUPPLEMENTARY INFORMATION: DHS S&T provides a secure website, accessible through http://www.SAFETYAct.gov, through which the public can learn about the program, submit applications for SAFETY Act protections, submit questions to the Office of SAFETY Act Implementation (OSAI), and provide feedback. The data collection forms have standardized the collection of information that is both necessary and essential for the DHS OSAI.

Overview of Information Collection

(1) Type of Information Collection: Existing information collection.

(2) Title of the Form/Collection: SAFETY Act Program.

(3) Agency Form Number, if any, and the applicable component of the Department of Homeland Security sponsoring the collection: DHS Science & Technology Directorate, DHS Forms 10001, 10002, 10003, 10004, 10005, 10006, 10007, 10008, 10009, 10010.

(4) Affected public who will be asked or required to respond, as well as a brief abstract: Business entities, Associations, and State, Local and Tribal Government entities. Applications are reviewed for benefits, technology/program evaluations, and regulatory compliance.

(5) An estimate of the total number of respondents and the amount of time estimated for an average respondent to respond:

a. Estimate of the total number of respondents: 950.

b. An estimate of the time for an average respondent to respond: 18.2 burden hours.

(6) An estimate of the total public burden (in hours) associated with the collection: 17,300 burden hours.

Dated: June 10, 2009.
Kenneth D. Rogers,
Chief Information Officer, Science and Technology Directorate, Department of Homeland Security.

[FR Doc. E9-14277 Filed 6-17-09; 8:45 am]

BILLING CODE 4410-10-P